DEPARTMENT OF COMMERCE

International Trade Administration

[A-570-900]

Diamond Sawblades and Parts Thereof From the People's Republic of China: Preliminary Results of Antidumping Duty Administrative Review and Preliminary Determination of No Shipments; 2017-2018

AGENCY: Enforcement and Compliance, International Trade Administration, Department of Commerce.

SUMMARY: The Department of Commerce (Commerce) preliminarily determines that diamond sawblades and parts thereof from the People's Republic of China (China) were not sold at less than normal value during the period of review (POR) November 1, 2017 through October 31, 2018. Interested parties are invited to comment on these preliminary results of review.

DATES: Applicable January 16, 2020.

FOR FURTHER INFORMATION CONTACT: Bryan Hansen AD/CVD Operations, Office I, Enforcement and Compliance, International Trade Administration, U.S. Department of Commerce, 1401 Constitution Avenue NW, Washington, DC 20230; telephone: (202) 482-3683.

SUPPLEMENTARY INFORMATION:

Background

Commerce exercised its discretion to toll all deadlines affected by the partial federal government closure from December 22, 2018 through the resumption of operations on January 29, 2019.¹ Because the deadlines in administrative reviews are determined based on the last day of the anniversary month, which, in this case, is November 30, 2018, prior to the beginning of the federal government closure, the tolling memo applies to this administrative review. As a result, the revised deadline for the preliminary results of this administrative review became September 11, 2019. On February 6, 2019, Commerce initiated the administrative review of the antidumping duty order on diamond sawblades and parts thereof from China.² The administrative review covers one mandatory respondent, Chengdu Huifeng New Material Technology Co., Ltd. (Chengdu Huifeng). On August 14, 2019, Commerce extended the time limit for issuing the preliminary results of this review by 120 days, to no later than January 9, 2020.³

¹ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

² See Initiation of Antidumping and Countervailing Duty Administrative Reviews, 84 FR 2159 (February 6, 2019).

³ See Memorandum, “Diamond Sawblades and Parts Thereof from the People's Republic of China: Extension of Time Limit for Preliminary Results of Antidumping Duty Administrative Review, 2017-2018,” dated August 14, 2019.

Scope of the Order

The merchandise subject to the antidumping duty order is diamond sawblades and parts thereof, which is typically imported under heading 8202.39.00.00 of the Harmonized Tariff Schedule of the United States (HTSUS). When packaged together as a set for retail sale with an item that is separately classified under headings 8202 to 8205 of the HTSUS, diamond sawblades or parts thereof may be imported under heading 8206.00.00.00 of the HTSUS. On October 11, 2011, Commerce included the 6804.21.00.00 HTSUS classification number to the customs case reference file, pursuant to a request by U.S. Customs and Border Protection (CBP). Pursuant to requests by CBP, Commerce included to the customs case reference file the following HTSUS classification numbers: 8202.39.0040 and 8202.39.0070 on January 22, 2015, and 6804.21.0010 and 6804.21.0080 on January 26, 2015.

While the HTSUS numbers are provided for convenience and customs purposes, the written description is dispositive. A full description of the scope of the order is contained in the Preliminary Decision Memorandum.⁴

⁴ See Memorandum, “Diamond Sawblades and Parts Thereof from the People's Republic of China: Decision Memorandum for the Preliminary Results of the Antidumping Duty Administrative Review; 2017-2018,” dated concurrently with, and hereby adopted by, this notice (Preliminary Decision Memorandum).

Preliminary Determination of No Shipments

Three companies that received a separate rate in previous segments of the proceeding and are subject to this review reported that they did not have any exports of subject merchandise during the POR.⁵ We requested that CBP report any contrary information.⁶ To date, we have not received any contrary information from either CBP in response to our inquiry or any other sources that these companies had any shipments of the subject merchandise sold to the United States during the POR.⁷ Further, consistent with our practice, we find that it is not appropriate to rescind the review with respect to these companies, but rather to complete the review and issue appropriate instructions to CBP based on the final results of review.⁸

⁵ See No-Shipment Letters from Weihai Xiangguang Mechanical Industrial Co., Ltd., dated March 5, 2019, and from Danyang Hantronic Import & Export Co., Ltd., and Danyang Weiwang Tools Manufacturing Co., Ltd., dated March 8, 2019.

⁶ See CBP message numbers 9352317, 9352319 and 9352320, dated December 18, 2019, available at https://aceservices.cbp.dhs.gov/adcvdweb/.

⁷ See Preliminary Decision Memorandum at 3-4 f.

⁸ See, e.g., Certain Steel Threaded Rod From the People's Republic of China: Preliminary Results of the Antidumping Duty Administrative Review and Preliminary Determination of No Shipments; 2018-2019, 84 FR 71900 (December 30, 2019).

Separate Rates

Commerce preliminarily determines that six respondents are eligible to receive separate rates in this review.⁹

⁹ See Preliminary Decision Memorandum at 8-10.

Separate Rate for Eligible Non-Selected Respondents

Commerce preliminarily determines that the respondents not selected for individual examination, Bosun Tools Co., Ltd. (Bosun Tools), the Jiangsu Fengtai Single Entity,¹⁰ Wuhan Wanbang Laser Diamond Tools Co., Ltd. (Wuhan Wanbang), Xiamen ZL Diamond Technology Co., Ltd. (Xiamen ZL), and Zhejiang Wanli Tools Group Co., Ltd. (Zhejiang Wanli), are eligible to receive a separate rate in the administrative review.¹¹ Consistent with our practice, we assigned to Bosun Tools, the Jiangsu Fengtai Single Entity, Wuhan Wanbang, Xiamen ZL, and Zhejiang Wanli the weighted-average margin calculated for Chengdu Huifeng as the separate rate for the preliminary results of this review.¹²

¹⁰ Jiangsu Fengtai Diamond Tool Manufacture Co., Ltd., Jiangsu Fengtai Tools Co., Ltd., and Jiangsu Fengtai Sawing Industry Co., Ltd., comprise the Jiangsu Fengtai Single Entity. See Diamond Sawblades and Parts Thereof from the People's Republic of China: Final Results of Antidumping Duty Administrative Review; 2014-2015, 82 FR 26912, 26913, n.5 (June 12, 2017). We received review requests for Jiangsu Fengtai Diamond Tool Manufacture Co., Ltd., Jiangsu Fengtai Diamond Tools Co., Ltd., and Jiangsu Fengtai Tools Co., Ltd.

¹¹ See Preliminary Decision Memorandum at 10-11 for more details.

¹² Id.

China-Wide Entity

Under Commerce's policy regarding the conditional review of the China-wide entity,¹³ the China-wide entity will not be under review unless a party specifically requests, or Commerce self-initiates, a review of the entity. Because no party requested a review of the China-wide entity in this review, the entity is not under review, and the entity's rate (i.e., 82.05 percent) is not subject to change.¹⁴ Aside from the no-shipment and separate rate companies discussed above, Commerce considers all other companies for which a review was requested (which did not file a separate rate application) to be part of the China-wide entity.¹⁵

¹³ See Antidumping Proceedings: Announcement of Change in Department Practice for Respondent Selection in Antidumping Duty Proceedings and Conditional Review of the Nonmarket Economy Entity in NME Antidumping Duty Proceedings, 78 FR 65963 (November 4, 2013).

¹⁴ See, e.g., Diamond Sawblades and Parts Thereof from the People's Republic of China; Final Results of Antidumping Duty Administrative Review; 2012-2013, 80 FR 32344, 32345 (June 8, 2015).

¹⁵ See Initiation of Antidumping and Countervailing Duty Administrative Reviews, 83 FR 1329, 1331-32 (January 11, 2018) (“All firms listed below that wish to qualify for separate rate status in the administrative reviews involving NME countries must complete, as appropriate, either a separate rate application or certification, as described below.”). Companies that are subject to this administrative review that are considered to be part of the China-wide entity are: ASHINE Diamond Tools Co., Ltd., Danyang City Ou Di Ma Tools Co., Ltd., Danyang Huachang Diamond Tool Manufacturing Co., Ltd., Danyang Like Tools Manufacturing Co., Ltd., Danyang NYCL Tools Manufacturing Co., Ltd., Danyang Tsunda Diamond Tools Co., Ltd., Guilin Tebon Superhard Material Co., Ltd., Hangzhou Deer King Industrial and Trading Co., Ltd., Hangzhou Kingburg Import & Export Co., Ltd., Hebei XMF Tools Group Co., Ltd., Henan Huanghe Whirlwind Co., Ltd., Henan Huanghe Whirlwind International Co., Ltd., Hong Kong Hao Xin International Group Limited, Hubei Changjiang Precision Engineering Materials Technology Co., Ltd., Hubei Sheng Bai Rui Diamond Tools Co., Ltd., Huzhou Gu's Import & Export Co., Ltd., Jiangsu Huachang Diamond Tools Manufacturing Co., Ltd., Jiangsu Inter-China Group Corporation, Jiangsu Youhe Tool Manufacturer Co., Ltd., Orient Gain International Limited, Pantos Logistics (HK) Company Limited, Pujiang Talent Diamond Tools Co., Ltd., Qingdao Hyosung Diamond Tools Co., Ltd., Qingyuan Shangtai Diamond Tools Co., Ltd., Qingdao Shinhan Diamond Industrial Co., Ltd., Quanzhou Zhongzhi Diamond Tool Co., Ltd., Rizhao Hein Saw Co., Ltd., Saint-Gobain Abrasives (Shanghai) Co., Ltd., Shanghai Jingquan Industrial Trade Co., Ltd., Shanghai Starcraft Tools Co. Ltd., Sino Tools Co., Ltd., Wuhan Baiyi Diamond Tools Co., Ltd., Wuhan Sadia Trading Co., Ltd., Wuhan ZhaoHua Technology Co., Ltd., Zhenjiang Inter-China Import & Export Co., Ltd., ZL Diamond Technology Co., Ltd., and ZL Diamond Tools Co., Ltd. Although Shanghai Starcraft Tools Co. Ltd. submitted comments stating that its shipments listed in the CBP import data placed on the record by Commerce were not subject merchandise, we did not treat the submission as a no-shipment statement and, therefore, we consider Shanghai Starcraft Tools Co. Ltd. to be part of the China-wide Entity. See the “Preliminary Determination of No Shipments” section of the Prelminary Decision Memorandum.

Verification

As provided in section 782(i) of the Act, we verified the information provided by Chengdu Huifeng in this review of diamond sawblades from China using standard verification procedures, including on-site inspection of the producer/exporter's facilities and examination of relevant sales and financial records. Our verification results are outlined in the verification report for Chengdu Huifeng dated concurrently with this notice.

Methodology

Commerce is conducting this review in accordance with section 751(a)(1)(B) and (a)(2) of the Tariff Act of 1930, as amended (the Act), and 19 CFR 351.213. Export price is calculated in accordance with section 772(c) of the Act. Because China is a non-market economy within the meaning of section 771(18) of the Act, normal value has been calculated in accordance with section 773(c) of the Act.

For a full description of the methodology underlying our conclusions, see the Preliminary Decision Memorandum. The Preliminary Decision Memorandum is a public document and is made available to the public via Enforcement and Compliance's Antidumping and Countervailing Duty Centralized Electronic Service System (ACCESS). ACCESS is available to registered users at https://access.trade.gov, and to all parties in the Central Records Unit, room B8024 of the main Commerce building. In addition, a complete version of the Preliminary Decision Memorandum can be found at http://enforcement.trade.gov/frn/. A list of the topics discussed in the Preliminary Decision Memorandum is attached as an appendix to this notice. The signed and electronic versions of Preliminary Decision Memorandum are identical in content.

Preliminary Results of Administrative Review

Commerce preliminarily determines that the following weighted-average dumping margins exist for the administrative review covering the period November 1, 2017 through October 31, 2018:

Exporter | Weighted- average dumping margin (percent)
Bosun Tools Co., Ltd | 0.00
Chengdu Huifeng New Material Technology Co., Ltd | 0.00
Jiangsu Fengtai Single Entity | 0.00
Wuhan Wanbang Laser Diamond Tools Co., Ltd | 0.00
Xiamen ZL Diamond Technology Co., Ltd | 0.00
Zhejiang Wanli Tools Group Co., Ltd | 0.00

Disclosure

We intend to disclose calculations performed in these preliminary results to parties within five days after public announcement of the preliminary results.¹⁶

¹⁶ See 19 CFR 351.224(b).

Public Comment

Pursuant to 19 CFR 351.309(c)(ii), interested parties may submit case briefs no later than 30 days after the date of publication of this notice.¹⁷ Rebuttal briefs, limited to issues raised in the case briefs, may be filed no later than five days after the date for filing case briefs.¹⁸ Parties who submit case briefs or rebuttal briefs in this proceeding are encouraged to submit with each argument: (1) A statement of the issue; (2) a brief summary of the argument; and (3) a table of authorities.¹⁹

¹⁷ See 19 CFR 351.309(c).

¹⁸ See 19 CFR 351.309(d).

¹⁹ See 19 CFR 351.309(c)(2) and (d)(2) and 19 CFR 351.303 (for general filing requirements).

Interested parties who wish to request a hearing must submit a written request to the Assistant Secretary for Enforcement and Compliance, U.S. Department of Commerce, filed electronically using ACCESS. An electronically filed document must be received successfully in its entirety by ACCESS by 5:00 p.m. Eastern Time within 30 days after the date of publication of this notice.²⁰ Hearing requests should contain: (1) The party's name, address, and telephone number; (2) the number of participants; and (3) a list of issues to be discussed. Issues raised in the hearing will be limited to those raised in the respective case briefs.

²⁰ See 19 CFR 351.310(c).

Unless the deadline is extended, Commerce intends to issue the final results of these reviews, including the results of its analysis of issues raised by parties in their comments, within 120 days after the publication of these preliminary results, pursuant to section 751(a)(3)(A) of the Act and 19 CFR 351.213(h).

Assessment Rates

Upon issuing the final results, Commerce will determine, and U.S. Customs and Border Protection (CBP) shall assess, antidumping duties on all appropriate entries covered by these reviews.²¹ If a respondent's weighted-average dumping margin is above de minimis (i.e., 0.50 percent) in the final results of these reviews, we will calculate an importer-specific assessment rate on the basis of the ratio of the total amount of dumping calculated for each importer's examined sales and, where possible, the total entered value of sales. Specifically, Commerce will apply the assessment rate calculation method adopted in Final Modification for Reviews.²² Where an importer- (or customer-) specific ad valorem rate is zero or de minimis, we will instruct CBP to liquidate appropriate entries without regard to antidumping duties.²³

²¹ See 19 CFR 351.212(b)(1).

²² See Antidumping Proceeding: Calculation of the Weighted-Average Dumping Margin and Assessment Rate in Certain Antidumping Duty Proceedings; Final Modification, 77 FR 8103 (February 14, 2012) (Final Modification for Reviews).

²³ See 19 CFR 351.106(c)(2).

For entries that were not reported in the U.S. sales databases submitted by exporters individually examined during this review, Commerce will instruct CBP to liquidate such entries at the China-wide rate. If Commerce determines that an exporter under review had no shipments of the subject merchandise, any suspended entries that entered under that exporter's case number (i.e., at that exporter's rate) will be liquidated at the China-wide rate.²⁴

²⁴ See Non-Market Economy Antidumping Proceedings: Assessment of Antidumping Duties, 76 FR 65694, 65695 (October 24, 2011).

We intend to issue assessment instructions to CBP 15 days after the date of publication of the final results of these reviews.

Cash Deposit Requirements

The following cash deposit requirements will be effective upon publication of the final results of these reviews for shipments of the subject merchandise from China entered, or withdrawn from warehouse, for consumption on or after the publication date, as provided by section 751(a)(2)(C) of the Act: (1) For the subject merchandise exported by the companies listed above that have separate rates, the cash deposit rate will be equal to the weighted-average dumping margin established for Chengdu Huifeng in the final results of this administrative review; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in Commerce's presumption that reimbursement of antidumping duties occurred and the subsequent assessment of double antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation. Commerce is issuing and publishing the preliminary results of this review in accordance with sections 751(a)(1)(B), 751(a)(3) and 777(i) of the Act, and 19 CFR 351.213 and 351.221(b)(4).

Dated: January 9, 2020.
Jeffrey I. Kessler,
Assistant Secretary for Enforcement and Compliance.

Appendix

List of Topics Discussed in the Preliminary Decision Memorandum

I. Summary

II. Background

III. Scope of the Order

IV. Preliminary Determination of No Shipments

V. Verification

VI. Discussion of the Methodology

VII. Currency Conversion

VIII. Recommendation

[FR Doc. 2020-00639 Filed 1-15-20; 8:45 am]

BILLING CODE 3510-DS-P